DEPARTMENT OF TRANSPORTATION

Federal Highway Administration

Environmental Impact Statement; Arenac and Iosco Counties, MI

AGENCY: Federal Highway Administration (FHWA), DOT.

ACTION: Notice of intent to withdraw Environmental Impact Statement.

SUMMARY: The FHWA is issuing this notice to advise the public of its intent to withdraw a proposed US-23 freeway project in Arenac and Iosco Counties, Michigan, from further environmental studies and select a NO BUILD alternative.

FOR FURTHER INFORMATION CONTACT: James Kirschensteiner, Assistant Division Administrator, Federal Highway Administration, 315 West Allegan Street, Room 207, Lansin, Michigan 48933, Telephone 517-702-1835.

SUPPLEMENTARY INFORMATION: The FHWA issued a Draft Environmental Impact Statement on September 14, 1995, for the proposed construction of a new US-23 freeway from the vicinity of Standish, Michigan, notherly to the vicinity of Tawas, Michigan. A public hearing was conducted on October 25 and 26, 1995, to solicit public comments on the proposed freeway. Comments were also solicited from environmental resource agencies, permitting agencies, and others interested in the proposed freeway. Based on comments received from this process coupled with limited funding for a proposed new freeway, the Michigan Department of Transportation and FHWA have decided to select the NO BUILD alternative at this time. Limited traffic improvements along existing roadways will be pursued in lieu of a freeway or new alignment.

Issued on: May 21, 2002.
James J. Steele,
Division Administrator, Lansing, Michigan.

[FR Doc. 02-14544 Filed 6-10-02; 8:45 am]

BILLING CODE 4910-22-M